DEPARTMENT OF THE INTERIOR

Minerals Management Service

30 CFR Parts 251, 254, and 282

RIN 1010-AC32

Outer Continental Shelf Appeals Procedures

AGENCY: Minerals Management Service (MMS), Interior.

ACTION: Technical amendments.

SUMMARY: This document makes technical changes to regulations that were published in various Federal Register documents and are codified in the July 1, 1999, edition of Title 30—Minerals Resources, Parts 200-699. The changes are necessary to make the references to appeals procedures in various parts of our regulations consistent with the new MMS appeal procedures regulations.

EFFECTIVE DATE: January 25, 2000.

FOR FURTHER INFORMATION CONTACT: Greg Gould, (703) 787-1600.

SUPPLEMENTARY INFORMATION:

Background

These technical amendments affect all offshore operators, lessees, and permittees. On May 13, 1999 (64 FR 26240), MMS published final regulations, effective the same date, governing the appeal of orders and decisions from MMS's Royalty Management and Offshore Minerals Management Programs in 30 CFR parts 208, 241, 242, 243, 250, and 290. The final regulations neglected to amend several other sections of our Offshore Minerals Management regulations in parts 251, 254, and 282 to make them consistent with the MMS Appeals rule. This was an inadvertent oversight that we are now correcting.

Need for Correction

As published, the final regulations contain inconsistencies with the intent of the appeals final rulemaking, which may prove to be misleading, and are in need of clarification.

List of Subjects

30 CFR Part 251

Continental shelf, Freedom of information, Oil and gas exploration, Public lands—mineral resources, Public lands—rights-of-way, Report and recordkeeping requirements, Research.

30 CFR Part 254

Continental shelf, Environmental protection, Oil and gas development and production, Oil and gas exploration, Pipelines, Public lands—mineral resources, Public lands—rights-of-way, Report and recordkeeping requirements.

30 CFR Part 282

Continental shelf, Prospecting, Public lands—mineral resources, Public lands—rights-of-way, Report and recordkeeping requirements, Research.

Accordingly, 30 CFR parts 251, 254, and 282 are amended by making the following technical amendments:

PART 251—GEOLOGICAL AND GEOPHYSICAL (G&G) EXPLORATIONS OF THE OUTER CONTINENTAL SHELF

1. The authority citation for part 251 continues to read as follows:

Authority: 43 U.S.C. 1331 et seq.

§ 251.10 [Amended]

2. In § 251.10, paragraph (c) is revised to read as follows:

§ 251.10 Penalties and appeals.

* * * * *

(c) Procedures to appeal orders or decisions MMS issues. See 30 CFR part 290 for instructions on how to appeal any order or decision that we issue under this part.

PART 254—OIL-SPILL RESPONSE REQUIREMENTS FOR FACILITIES LOCATED SEAWARD OF THE COAST LINE

3. The authority citation for part 254 continues to read as follows:

Authority: 33 U.S.C. 1321.

§ 254.8 [Amended]

4. Section 254.8 and its title are revised to read as follows:

§ 254.8 May I appeal decisions under this part?

See 30 CFR part 290 for instructions on how to appeal any order or decision that we issue under this part.

PART 282—OPERATIONS IN THE OUTER CONTINENTAL SHELF FOR MINERALS OTHER THAN OIL, GAS, AND SULPHUR

5. The authority citation for part 282 continues to read as follows:

Authority: 43 U.S.C. 1331 et seq.

§ 282.50 [Amended]

6. Section 282.50 is revised to read as follows:

§ 282.50 Appeals.

See 30 CFR part 290 for instructions on how to appeal any order or decision that we issue under this part.

Dated: January 11, 2000.
E.P. Danenberger,
Chief, Engineering and Operations Division.

[FR Doc. 00-1675 Filed 1-24-00; 8:45 am]

BILLING CODE 4310-MR-U